DEPARTMENT OF STATE

[Public Notice: 8060]

30-Day Notice of Proposed Information Collection: Passport Demand Forecasting Study

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to November 14, 2012.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to the Office of Passport Services at PassportStudy@state.gov.

SUPPLEMENTARY INFORMATION:

• Title of Information Collection: Passport Demand Forecasting Study.

• OMB Control Number: 1405-0177.

• Type of Request: Reinstatement of a previous collection.

• Originating Office: Bureau of Consular Affairs/Passport Services (CA/PPT).

• Form Number: SV2012-0006.

• Respondents: A national representative sample of U.S. citizens, U.S. nationals, and any other categories of individuals that are entitled to a U.S. passport product.

• Estimated Number of Respondents: 4,000 survey respondents per month.

• Estimated Number of Responses: 48,000 survey responses per year.

• Average Time Per Response: approx. 10 minutes per survey.

• Total Estimated Burden Time: 8,000 hours.

• Frequency: Monthly.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

The Intelligence Reform and Terrorism Prevention Act of 2004 (IRTPA) calls for the Secretary of Homeland Security, along with the Secretary of State, to develop and implement a plan that requires sufficient documentation of identity and citizenship to be shown when entering the United States. The requirement that requires sufficient documentation of identity and citizenship to be shown when entering the United States along with other socio-demographic variables has left the future demand for U.S. passport products as undefined. The ambiguity of passport demand has resulted in Passport Services (CA/PPT) having an urgent need to obtain regular statistical data on issues that focuses on and are related to passport applications and travel. In support of these efforts, CA/PPT will conduct monthly forecasts of passport demand. The data gathered from the Passport Demand Forecasting Study will be used to monitor, assess, and forecast passport demand on a continuous basis.

Methodology:

CA/PPT is conducting a Passport Demand Forecast Study that includes monthly surveys that will gather data from a national representative sample of U.S. citizens, U.S. nationals, and any other categories of individuals that are entitled to a U.S. passport product. Methodologies can include mail, web/internet, telephone, and mixed-mode surveys to ensure that Passport Services reaches the appropriate audience and leverages the best research method obtain valid responses. The survey data will cover an estimated 48,000 respondents annually and will include topics covering passport demand, travel, and socio-demographic variables of interest to the United States Department of State.

Dated: September 27, 2012.
Rachel M. Arndt,
Managing Director (Acting), Passport Support Operations, Bureau of Consular Affairs, Department of State.

[FR Doc. 2012-25249 Filed 10-12-12; 8:45 am]

BILLING CODE 4710-06-P